DEPARTMENT OF THE INTERIOR

Bureau of Indian Affairs

[190A2100DD/AAKC001030/A0A501010.999900253G]

Indian Gaming; Tribal-State Class III Gaming Compacts Taking Effect in the State of California

AGENCY: Bureau of Indian Affairs, Interior.

ACTION: Notice.

SUMMARY: The notice announces that the Tribal-State Compacts between the State of California and the Big Valley Band of Pomo Indians of the Big Valley Rancheria, the Dry Creek Rancheria Band of Pomo Indians, the Habematolel Pomo of Upper Lake, the Karuk Tribe, the La Jolla Band of Luiseno Indians, the Mechoopda Indian Tribe of Chico Rancheria, the San Pasqual Band of Diegueno Mission Indians of California, the Santa Ynez Band of Chumash Mission Indians of the Santa Ynez Reservation, the Torres Martinez Desert Cahuilla Indians, and the Twenty-Nine Palms Band of Mission Indians of California are taking effect.

DATES: These compacts take effect on December 27, 2018.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by IGRA and 25 CFR 293.4, all compacts are subject to review and approval by the Secretary. The Secretary took no action on the compacts between the State of California and the Big Valley Band of Pomo Indians of the Big Valley Rancheria, the Dry Creek Rancheria Band of Pomo Indians, the Habematolel Pomo of Upper Lake, the Karuk Tribe, the La Jolla Band of Luiseno Indians, the Mechoopda Indian Tribe of Chico Rancheria, the San Pasqual Band of Diegueno Mission Indians of California, the Santa Ynez Band of Chumash Mission Indians of the Santa Ynez Reservation, the Torres Martinez Desert Cahuilla Indians, and the Twenty-Nine Palms Band of Mission Indians of California within 45 days of their submission. Therefore, the Compacts are considered to have been approved, but only to the extent they are consistent with IGRA. See 25 U.S.C. 2710(d)(8)(C).

Dated: December 13, 2018.
John Tahsuda,
Principal Deputy Assistant Secretary—Indian Affairs.

[FR Doc. 2018-28135 Filed 12-26-18; 8:45 am]

BILLING CODE 4337-15-P